DEPARTMENT OF THE INTERIOR

Bureau of Indian Affairs

[145A2100DD.AADD001000.A0E501010.999900]

Renewal of Agency Information Collection for Sovereignty in Indian Education Grant Program

AGENCY: Bureau of Indian Affairs, Interior.

ACTION: Notice of request for comments.

SUMMARY: In compliance with the Paperwork Reduction Act of 1995, the Bureau of Indian Education (BIE) is seeking comments on the renewal of Office of Management and Budget (OMB) approval for the collection of information for the Sovereignty in Indian Education Grant Program authorized by OMB Control Number 1076-0182. This information collection expires January 31, 2015.

DATES: Submit comments on or before January 6, 2015.

ADDRESSES: You may submit comments on the information collection Ms. Wendy Greyeyes, Bureau of Indian Education, 1849 C Street NW., MS-4655-MIB, Washington, DC 20240; Email: Wendy.Greyeyes@bie.edu.

FOR FURTHER INFORMATION CONTACT: Ms. Wendy Greyeyes, telephone: (202) 208-5810.

SUPPLEMENTARY INFORMATION:

I. Abstract

In 2013, the Secretary of the Interior and the Secretary of Education convened an American Indian Education Study Group to diagnose the systemic challenges facing the Bureau of Indian Education (BIE) and to propose a comprehensive plan for reform to ensure that all students attending BIE-funded schools receive a world-class education.

The Study Group drafted a framework for reform based on several listening sessions last fall with tribal leaders, Indian educators and others throughout Indian Country on how to facilitate tribal sovereignty in American Indian education and how to improve educational outcomes for students at BIE-funded schools. The Study Group incorporated feedback it received from tribal leaders and other BIE stakeholders into the final “Blueprint for Reform,” released on June 13, 2014.

Acting on the recommendations in the Blueprint, BIE will award competitive grants to tribes and their tribal education agencies to promote tribal control and operation of BIE-funded schools on their Indian reservations. The purpose of the grants is to support the tribe's capacity to manage and operate tribally controlled schools as defined in the Tribally Controlled Schools Act of 1988 (Pub. L. 100-297). These funds will (a) support development of a school-reform plan to improve educational outcomes for students and (b) improve efficiencies and effectiveness in the operation of BIE-funded schools within a reservation.

The grants will provide funds for the tribe to:

• Develop an implementation plan that will reform a tribe's current organizational structure towards an expert and independent tribal education agency that will support schools and students; and

• Cover the execution of the implementation plan with identified staffing, projected timelines, proposed budgets, and activities.

Each proposal must include a project narrative, a budget narrative, a work plan outline, and a Project Director to manage the execution of the grant. The Project Directors will participate in monthly collaboration meetings, submit quarterly budget updates, ensure an annual report is submitted at the end of each project year, and ultimately ensure that the tribal education agency fulfills the obligations of the grant. A response is required to obtain and/or retain a benefit.

II. Request for Comments

The BIE requests your comments on this collection concerning: (a) The necessity of this information collection for the proper performance of the functions of the agency, including whether the information will have practical utility; (b) The accuracy of the agency's estimate of the burden (hours and cost) of the collection of information, including the validity of the methodology and assumptions used; (c) Ways we could enhance the quality, utility, and clarity of the information to be collected; and (d) Ways we could minimize the burden of the collection of the information on the respondents.

Please note that an agency may not conduct or sponsor, and an individual need not respond to, a collection of information unless it displays a valid OMB Control Number.

It is our policy to make all comments available to the public for review at the location listed in the ADDRESSES section. Before including your address, phone number, email address or other personal identifying information in your comment, you should be aware that your entire comment—including your personal identifying information—may be made publicly available at any time. While you can ask us in your comment to withhold your personal identifying information from public review, we cannot guarantee that we will be able to do so.

III. Data

OMB Control Number: 1076-0182.

Title: Sovereignty in Indian Education Grant Program.

Brief Description of Collection: Indian Tribes and Tribal Organizations may submit proposals to support their efforts to take control and operate BIE-funded schools located on the tribe's reservation. Each proposal must include a project narrative, a budget narrative, a work plan outline, and a Project Director to manage the execution of the grant. The Project Directors will participate in monthly collaboration meetings, submit quarterly budget updates, ensure an annual report is submitted at the end of each project year, and ultimately ensure that the tribal education agency fulfills the obligations of the grant.

Type of Review: Extension without change of currently approved collection.

Respondents: Indian Tribes and/or Tribal Education Departments.

Number of Respondents: 11 per year.

Frequency of Response: Proposals and Annual reports once per year; Budget Reports are submitted 4 times per year; and Monthly meetings are 12 times per year.

Estimated Time per Response: Ranges from 1 hour to 40 hours.

Estimated Total Annual Hour Burden: 682 hours.

Estimated Total Annual Non-Hour Dollar Cost: $0.

Dated: November 4, 2014.
Elizabeth K. Appel,
Director, Office of Regulatory Affairs and Collaborative Action—Indian Affairs.

[FR Doc. 2014-26537 Filed 11-6-14; 8:45 am]

BILLING CODE 4310-6W-P